DEPARTMENT OF THE INTERIOR

Fish and Wildlife Service

Availability of Final Environmental Impact Statement for an Incidental Take Permit for the Western Riverside County Multiple Species Habitat Conservation Plan, California

AGENCY: Fish and Wildlife Service, Interior.

ACTION: Notice of availability and receipt of application.

SUMMARY: Pursuant to the National Environmental Policy Act, this notice advises the public of the availability of the Final Environmental Impact Statement/Environmental Impact Report (EIS/EIR) on the application by the County of Riverside, California Department of Transportation, California Department of Parks and Recreation and 14 cities (Applicants) in western Riverside County to incidentally take 83 animal species, including 69 unlisted species should any of them become listed, under the Endangered Species Act of 1973, as amended (Act), during the term of the proposed 75-year permit. The permit is needed to authorize take of listed animal species (including harm, injury and harassment) during urban and rural development in the approximately 1.2 million-acre (1,967 square-mile) Plan Area in western Riverside County, California. The U.S. Fish and Wildlife Service (Service) is publishing this notice to inform the public of the proposed action and to make available for review the Final EIS/EIR, which includes responses to public comments received on the Draft EIS/EIR. The Environmental Protection Agency (EPA) also is publishing a similar notice for this Final EIS/EIR.

DATES: A Record of Decision will occur no sooner than 30 days after the publication date of the EPA notice. Comments on the Final EIS/EIR must be received by the close of the comment period as indicated in the EPA notice.

ADDRESSES: Comments should be sent to Mr. James Bartel, Field Supervisor, U.S. Fish and Wildlife Service, Carlsbad Fish and Wildlife Office, 6010 Hidden Valley Road, Carlsbad, California 92009; facsimile (760) 431-9624.

Copies of the Western Riverside County Multiple Species Habitat Conservation Plan (MSHCP), Implementation Agreement, and Final EIS/EIR are available for review at the Riverside County Integrated Plan website (http://www.rcip.org) or at the following locations in California:

1. Carlsbad—U.S. Fish and Wildlife Service, Carlsbad Fish and Wildlife Office, 6010 Hidden Valley Road

2. Riverside—Riverside County Administrative Center, 4080 Lemon Street, 7th Floor; University of California, Riverside, Tomas Rivera Library, 900 University Avenue; and Riverside Public Library, 3581 Mission Inn Avenue

3. Murrieta—Murrieta Public Library, 39589 Los Alamos Road

4. Hemet—Riverside County Library, Hemet Branch, 25757 Fairview Avenue

5. Perris—Riverside County Library, Perris Branch, 163 E. San Jacinto.

FOR FURTHER INFORMATION CONTACT: Ms. Karen Goebel, Assistant Field Supervisor, Carlsbad Fish and Wildlife Office (see ADDRESSES), telephone number (760) 431-9440.

SUPPLEMENTARY INFORMATION:

Background

The Applicants seek an incidental take permit and assurances for 83 animal species (9 endangered, 5 threatened, and 69 unlisted), and assurances for 63 plant species (8 endangered, 3 threatened, and 52 unlisted). The animal species include 3 crustacean species (1 endangered, 1 threatened and 1 unlisted); 2 insect species (both endangered); 2 fish species (1 threatened and 1 unlisted); 5 amphibian species (2 endangered, 1 threatened, 2 unlisted); 12 reptile species (all unlisted); 45 bird species (2 endangered, 2 threatened, and 41 unlisted); and 14 mammal species (2 endangered and 12 unlisted). Collectively the 146 listed and unlisted species are referred to as Covered Species by the MSHCP. Twenty-eight of the Covered Species are identified as Covered Species for which adequate conservation has not been assured. These species would not be provided with incidental take under the permit until adequate conservation has been assured.

A permit is needed because section 9 of the Act and Federal regulations prohibit the “take” of animal species listed as endangered or threatened. Take of listed animal species is defined under the Act to include kill, harm, or harass. Harm includes significant habitat modification or degradation that actually kills or injures listed animals by significantly impairing essential behavioral patterns, including breeding, feeding, and sheltering [50 CFR 17.3(c)]. Under limited circumstances, the Service may issue permits to authorize incidental take; i.e. take that is incidental to, and not the purpose of, otherwise lawful activity. Although take of plant species is not prohibited under the Act, and therefore cannot be authorized under an incidental take permit, plant species are proposed to be included on the permit in recognition of the conservation benefits provided to them under the MSHCP. Assurances of no additional mitigation requirements provided under the No Surprises Rule at 50 CFR 17.3, 17.22(b)(5), and 17.32(b)(5) would extend to all species named on the permit. Regulations governing incidental take permits for threatened and endangered species are found in 50 CFR 17.32 and 17.22.

The MSHCP is intended to protect viable populations of native plant and animal species and their habitats in perpetuity through the creation of a preserve system, while accommodating continued economic development and quality of life for residents of western Riverside County. In the year 2020, the Southern California Association of Governments estimates that Riverside County will be home to approximately 2.8 million people, who will occupy approximately 918,000 dwelling units. This represents a doubling of the County's present population and housing stock. Another study by the California Department of Finance estimates that the County will continue to grow to 3.5 million people by 2030 and 4.5 million people by 2040. These residents will be located within 24 incorporated cities, as well as within unincorporated areas.

The MSHCP is one part of Riverside County's Integrated Project, the purpose of which is to integrate and provide for future land use, transportation, and conservation needs in Riverside County. The MSHCP Plan Area encompasses 1.2 million acres in western Riverside County and includes the following 14 incorporated cities: Banning, Beaumont, Calimesa, Canyon Lake, Corona, Hemet, Lake Elsinore, Moreno Valley, Murrieta, Norco, Perris, Riverside, San Jacinto, and Temecula. The MSHCP is one of two large, multiple-jurisdictional habitat planning efforts in Riverside County, both of which are “subregional” plans under the State of California's Natural Community Conservation Planning Act of 1991.

In the MSHCP, the Applicants have proposed the conversion of approximately 800,000 acres from open space to non-open space uses during the 75-year permit, primarily by activities already planned for by the cities and County. These activities include residential, commercial, and industrial development; construction and maintenance of transportation facilities; construction and maintenance of flood control facilities, public utilities, and parks and trails; agricultural conversion of vegetation communities; management of reserves; and other anticipated projects.

Proposed covered activities which require discretionary action by a permittee, subject to consistency with MSHCP policies, include: two internal regional transportation facilities, maintenance of and safety improvements on existing roads, circulation element roads, single family homes on existing legal parcels, compatible uses in the reserve, and up to 10,000 new acres of agricultural activity within the Criteria Area (an area to be evaluated for inclusion in the reserve in accordance with the criteria guidelines). The MSHCP makes a provision for the inclusion of special districts and other non-permittee entities in the permit.

As described in Volumes I and II of the Public Review Draft MSHCP (November 2002) and the Draft EIS/EIR, the applicants propose to create a preserve system that protects and manages 153,000 acres of habitat for the Covered Species in addition to the identified existing 347,000 acres of Covered Species habitat in the Plan Area with conservation value in public or quasi-public ownership. The existing 347,000 acres would be monitored and managed in coordination with the 153,000 acres to achieve a conservation area of 500,000 acres. The County and cities are in the process of adopting a mitigation fee to acquire 97,000 acres as mitigation for private development in the Plan Area. The funding plan assumes that of the 97,000 acres, 41,000 acres would be conserved through the land use approval process. An additional 6,000 acres would be conserved as mitigation for State (California Department of Transportation and California Department of Recreation) projects. It is anticipated that the Service and the California Department of Fish and Game would provide an additional 50,000 acres to complement the 103,000 acres of mitigation identified in the MSHCP. The 153,000 acres of conservation area lie within a larger Criteria Area. The Criteria Area is divided into a grid consisting of 160-acre cells. Each cell or cell group has associated criteria that describe the conservation expected in that cell.

The MSHCP includes measures to avoid and minimize incidental take of the Covered Species, emphasizing project design modifications to protect both habitats and species' individuals. A monitoring and reporting plan would gauge the Plan's success based on achievement of biological species objectives and reserve design criteria, and would ensure that conservation keeps pace with open space conversion. The MSHCP also includes adaptive management which allows for changes in the conservation program if the biological species objectives are not met, or new information becomes available to improve the efficacy of the MSHCP's conservation strategy.

The MSHCP would be implemented by the permittees and the Regional Conservation Authority (RCA), a Joint Powers Authority. The RCA would be formed prior to our Record of Decision and permit decision. After the RCA is formed, it would apply to the Service for an incidental take permit to implement the MSHCP. We do not intend to notice the RCA's incidental take permit application in the Federal Register because the role of the RCA was identified in the Draft MSHCP that was made available for public review with the Federal Register Notice of the incidental take permit applications from the other Applicants (67 FR 69236) and the RCA permit application would contain no new substantive information for the public to comment upon.

On November 15, 2002, the Service published a notice in the Federal Register (67 69236) announcing receipt of an application for an incidental take permit from Riverside County, the 14 cities and the other Applicants, and the availability of a Draft EIS/EIR for the application. The Draft EIS/EIR analyzed the potential environmental impacts that may result from the Federal action of authorizing incidental take anticipated to occur with implementation of the MSHCP, and identified various alternatives. We received a total of 110 comment letters on the Draft EIS/EIR. A response to each comment received in these letters has been included in Final EIS/EIR.

The Draft EIS/EIR considered four alternatives in addition to the preferred alternative/proposed project described above: (1) A listed, proposed and strong candidate species alternative; (2) a listed and proposed species alternative; (3) an existing reserves alternative; and (4) a no project alternative.

The listed, proposed and strong candidate species alternative focuses on the conservation of 29 state and/or federally listed species and seven unlisted species. This alternative would conserve approximately 119,300 acres of “new” lands (i.e., acreage above and beyond what is already conserved through public or quasi-public land ownership and management).

The listed and proposed species alternative focuses on the conservation of 29 state and/or federally listed or proposed species. The proposed new conservation under this alternative is approximately 93,800 acres.

The existing reserves alternative would provide coverage for six State and/or federally listed or candidate species and some unlisted species depending on management regimes in the existing reserves. It would not provide any new conservation of land.

The analysis provided in the Final EIS/EIR is intended to accomplish the following: inform the public of the proposed action; address public comments received on the Draft EIS/EIR; disclose the direct, indirect, and cumulative environmental effects of the proposed action; and indicate any irreversible commitment of resources that would result from implementation of the proposed action. This notice is provided pursuant to section 10 of the Act and National Environmental Policy Act regulations (40 CFR 1506.6).

Robert D. Williams,
Deputy Manager, Region 1, California/Nevada Operations Office, Sacramento, California.

[FR Doc. 03-25313 Filed 10-6-03; 8:45 am]

BILLING CODE 4310-55-P